DEPARTMENT OF HEALTH AND HUMAN SERVICES

Centers for Medicare & Medicaid Services

[CMS-4071-N]

Medicare Program; Listening Session on Performance Measures for Public Reporting on the Quality of Hospital Care—April 27, 2004

AGENCY: Centers for Medicare & Medicaid Services (CMS), HHS.

ACTION: Notice of meeting.

SUMMARY: This notice announces the first in a series of listening sessions to discuss next steps in the development of an expanded set of performance measures for public reporting on the quality of hospital care. Health care consumers, payers, plans, providers, purchasers and other interested parties are invited to attend this session to present their individual views. The opinions and alternatives provided during this session (and subsequent listening sessions) will assist us in our collaboration with the National Voluntary Hospital Reporting Initiative (NVHRI), as well as in our other hospital quality reporting and improvement efforts. Attendance at the listening session is free and open to the public, but advance registration is strongly encouraged.

DATES: Meeting Date: The listening session announced in this notice will be held on Tuesday, April 27, 2004, from 9 a.m. until noon.

Comment Deadline: Written comments must be received by July 30, 2004.

ADDRESSES: The listening session will be held at the Hilton Logan Airport, 85 Terminal Road, Boston, MA 02128; (617) 568-6700.

Written Statements or Comments: We will accept written comments, questions or other statements, not to exceed three single-spaced, typed pages that are received by July 30, 2004. Send written comments, questions, or other statements to via mail to Lisa Lang, Centers for Medicare & Medicaid Services, Quality Measurement and Health Assessment Group, Mailstop S3-24-14, 7500 Security Boulevard, Baltimore, Maryland 21244-1850; or via email to lisa.lang@cms.hhs.gov.

FOR FURTHER INFORMATION CONTACT: Lisa Lang, (410) 786-1182. You may also send inquiries via email to llang@cms.hhs.gov.

SUPPLEMENTARY INFORMATION:

I. Background

In December 2002, the American Hospital Association (AHA), Federation of American Hospitals (FAH), Association of American Medical Colleges (AAMC) joined the Joint Commission on the Accreditation of Hospital Organizations (JCAHO) and CMS in the development of the National Voluntary Hospital Reporting Initiative (NVHRI), a voluntary initiative to collect and report hospital quality performance information. This collaboration expanded to include the National Quality Forum (NQF), Agency for Healthcare Research and Quality (AHRQ), American Medical Association, Consumer-Purchaser Disclosure Project, American Association of Retired Persons (AARP) American Federation of Labor-Congress of Industrial Organizations (AFL-CIO), and other external stakeholders. The collaborators support this initiative as the beginning of an ongoing effort to make hospital performance information more accessible to the public, payers, and providers of care and to stimulate the adoption of quality improvement strategies. As part of the NVHRI, hospitals across the country are currently voluntarily reporting a “starter set” of 10 clinical performance measures for three clinical conditions (heart attack, heart failure, and pneumonia) on the CMS Web site http://www.cms.hhs.gov.

In furtherance of this effort, we intend to engage the broad stakeholder community to identify its wishes for what should be included in an expanded set of measures for hospital public reporting. With input from the public and private sectors and from consumers, we will identify a set of measures that are both robust and of high priority to these stakeholders. The collaborators will host five listening sessions for this purpose. Sessions will be conducted in Boston, Orlando, Dallas, San Francisco, and Chicago. More detailed information about the second and subsequent meetings will be presented in another Federal Register notice.

The discussion at the Boston listening session will draw upon, but not be limited to, the priority areas for measurement of clinical quality performance identified by the National Quality Forum, the Institute of Medicine, and others would like to receive about hospital quality of care. We anticipate that these listening sessions will help identify priority areas for assessing clinical quality of care, some of which have performance measures that are ready for the immediate next phase of public reporting and others, where the measures will need refinement or final testing. We also expect that some areas of interest will require additional research and development. After reviewing the set of measures determined to be appropriate for public reporting, we will ask the National Quality Forum to formally consider any measures that it has not yet endorsed.

The listening sessions are a key element of the CMS Hospital Quality Initiative. The Hospital Quality Initiative uses a variety of tools to stimulate and support a significant improvement in the quality of hospital care. The initiative aims to refine and standardize hospital data, data transmission, and performance measures to construct a single robust, prioritized, and standard quality measure set for hospitals. Our ultimate goal is that all private and public purchasers, oversight and accrediting entities, payers, and providers of hospital care would voluntarily use the same measures in their public reporting activities.

Through the listening sessions, we expect to be able to identify a robust and comprehensive measure set for hospital public reporting, and thereby support the efforts of the NVHRI, as well as the CMS Quality Improvement Organization (QIO) program and other CMS hospital quality improvement and reporting efforts. The listening sessions will provide a unique opportunity to consult with a broad and diverse set of public and private stakeholders to assess the face validity and demand for measures to be proposed for the next and subsequent expansions of the current public reporting activity.

In advance of the meeting, participants may wish to consult the CMS Hospital Quality Initiative Web site (http://www.cms.hhs.gov/quality/hospital/) to learn more about the NVHRI and other activities related to the CMS Hospital Quality Initiative. Participants may also wish to review relevant reports of the National Quality Forum (such as “National Voluntary Consensus Standards for Hospital Care: An Initial Performance Measure Set” and “Reaching the Tipping Point: Measuring and Reporting Quality Using the NQF-Endorsed Hospital Care Measures”) and the Institute of Medicine (such as “Priority Areas for National Action: Transforming Health Care Quality”). Synopses of these reports are available on these organizations' websites.

More detailed information about this project and subsequent listening sessions, the Hospital Quality Initiative, the NVHRI and other related activities may be found at http://www.cms.hhs.gov/quality/hospital.

II. Meeting Format

The first listening session will consist of three parts. First, a presentation on our current activities related to public reporting of hospital quality measures, as well as a discussion of priority areas and examples of measures as developed by such groups as the Institute of Medicine and the National Quality Forum. The next portion of the meeting will be reserved for a panel discussion and comments from key stakeholders, both local and national. The last third of the meeting will be reserved for comments, questions, and feedback from interested parties in attendance.

Time for participants to ask questions or offer comments will be limited according to the number of registered participants. Individuals who wish to offer comments need not indicate their interest in advance, but they should register for and attend the meeting.

We are interested in a national public dialogue on public reporting of performance measures of hospital care beyond the ten measures currently included in the NVHRI. We believe that an active discussion will help us clearly identify the complementary and competing priorities and concerns of the various stakeholders interested in public reporting. Therefore, we are providing an opportunity for those persons who are unable to attend one of the five listening sessions to submit written comments to one of addresses listed in the ADDRESSES section of this notice by July 30, 2004. However, we will not be able to respond personally to the written comments received.

III. Registration Instructions

The New York State Quality Improvement Organization, IPRO, is coordinating registration for this listening session. There is no registration fee. You may register online by visiting the IPRO Web site at http://www.ipro.org or you may call 1-800-852-3685, ext. 258. You will receive a registration confirmation.

(Catalog of Federal Domestic Assistance Program No. 93.773, Medicare—Hospital Insurance; and Program No. 93.774, Medicare—Supplementary Medical Insurance Program)
Dated: March 18, 2004.
Dennis G. Smith,
Acting Administrator, Centers for Medicare and Medicaid Services.

[FR Doc. 04-6669 Filed 3-25-04; 8:45 am]

BILLING CODE 4120-01-P